DEPARTMENT OF THE INTERIOR

Bureau of Land Management

[LLWY921000, L14300000.ET0000; WYW-155144]

Public Land Order No. 7849; Withdrawal of Public Land for the Protection of the Red Gulch Dinosaur Tracksite; Wyoming

AGENCY: Bureau of Land Management, Interior.

ACTION: Public Land Order.

SUMMARY: This order withdraws 1,359.25 acres of public land from location and entry under the United States mining laws for a period of 20 years to protect important paleontological resources within the Red Gulch Dinosaur Tracksite located in Bighorn County, Wyoming. The land has been and will remain open to the public land laws and mineral and geothermal leasing.

DATES: Effective Date: January 21, 2016.

FOR FURTHER INFORMATION CONTACT: Janelle Wrigley, Realty Officer, Bureau of Land Management, Wyoming State Office, 5353 Yellowstone Road, Cheyenne, Wyoming 82009, 307-775-6257 or via email at jwrigley@blm.gov.

Persons who use a telecommunications device for the deaf (TDD) may call the Federal Information Relay Service (FIRS) at 1-800-877-8339 to contact the above individual at normal business hours. The FIRS is available 24 hours per day, 7 days per week, to leave a message or question with the above individual. You will receive a reply during normal business hours.

SUPPLEMENTARY INFORMATION: The Bureau of Land Management will manage the land to protect the important paleontological resources and investments associated with development and maintenance of the Red Gulch Dinosaur Tracksite.

Order

By virtue of the authority vested in the Secretary of the Interior by Section 204 of the Federal Land Policy and Management Act of 1976, 43 U.S.C. 1714, it is ordered as follows:

1. Subject to valid existing rights, the following described public land is hereby withdrawn from location and entry under the United States mining laws (30 U.S.C. Ch. 2), but not from leasing under the mineral or geothermal leasing laws, for the Bureau of Land Management to protect and preserve significant paleontological resources associated with the Red Gulch Dinosaur Tracksite.

Sixth Principal Meridian

T. 52 N., R. 91 W.,

Sec. 17, S½NE¼ and SE¼;

Sec. 20, lots 1 to 12, inclusive, and SE¼NE¼;

Sec. 21, NE¼, W½, N½SE¼, and SW¼SE¼.

The area described contains 1,359.25 acres in Big Horn County.

2. The withdrawal made by this order does not alter the applicability of those public land laws governing the use of land under lease, license or permit, or governing the disposal of the mineral or vegetative resources other than under the mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: December 23, 2015.
Janice M. Schneider,
Assistant Secretary—Land and Minerals Management.

[FR Doc. 2016-01164 Filed 1-20-16; 8:45 am]

BILLING CODE 4310-22-P